DEPARTMENT OF EDUCATION

Applications for New Awards; Strengthening Program Evaluation Capacity: Building Evidence of Effectiveness of Strategies To Increase Postsecondary Student Success

AGENCY: Institute of Education Sciences, Department of Education.

ACTION: Notice.

SUMMARY: The Department of Education (Department) is issuing a notice inviting applications for new awards for fiscal year (FY) 2025 for the Strengthening Program Evaluation Capacity grant program.

DATES:

Application Packages Available: August 29, 2024.

Deadline for Transmittal of Applications: November 14, 2024.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Matthew Soldner. Telephone: 202-453-7441. Email: matthew.soldner@ed.gov.

If you are deaf, hard of hearing, or have a speech disability and wish to access telecommunications relay services, please dial 7-1-1.

SUPPLEMENTARY INFORMATION:

Full Text of Announcement

I. Funding Opportunity Description

Purpose of Program: In awarding grants under this program, the Institute of Education Sciences (IES) intends to build individual and organizational capacity to conduct high-quality evaluations of education interventions that are designed in accordance with evaluation standards identified by IES's What Works Clearinghouse (see https://ies.ed.gov/ncee/wwc/Handbooks). Sponsored by IES's National Center for Education Evaluation and Regional Assistance (NCEE), this program supports NCEE's larger mission to encourage the conduct and use of scientifically valid education research and evaluation throughout the United States.

Assistance Listing Numbers: 84.429A.

OMB Control Number: 4040-0001.

Competition in this Notice:

NCEE is announcing one competition under its Strengthening Program Evaluation Capacity (SPEC) program: Building Evidence of Effectiveness of Strategies to Increase Postsecondary Student Success (PS) Network (ALN 84.429A). Through this program, IES is seeking evaluation teams to join the new Building Evidence of Effectiveness of Strategies to Increase Postsecondary Student Success (SPEC-PS) Network. Evaluation teams will (1) engage in a series of IES-sponsored technical assistance activities that will strengthen their capacity to design and conduct rigorous evaluations of a proposed postsecondary student success intervention, (2) implement the proposed intervention at more than one institution that participates in programs authorized by Title IV of the Higher Education Act of 1965 (HEA; 20 U.S.C. 1001 et seq.), and (3) conduct an independent evaluation of the intervention once implemented that includes an examination of the impact of the intervention on HEA program participants.

Evaluation teams must consist of employees at (1) State higher education agencies and/or (2) consortia of 2-year or 4-year institutions of higher education. Interventions proposed to be implemented and evaluated under this grant program must be allowable under one or more programs authorized by the HEA (20 U.S.C. 1001 et seq.) and the evaluations must examine the impact of the intervention on HEA program participants. Additional information, including about eligible evaluation teams and interventions, is provided in the request for applications (RFA).

Multiple Submissions: You may submit applications to more than one of the FY 2025 research grant programs offered through the Department, including those offered through IES as well as those offered through other offices and programs within the Department. However, you may submit only one application to the IES grant program announced here. If you submit multiple similar applications, IES will determine whether and which applications will be accepted for review and/or will be eligible for funding. In addition, if you submit the same or similar application to IES and to another funding entity within or external to the Department and receive funding for the non-IES application prior to IES scientific peer review of applications, you must withdraw the same or similar application submitted to IES, or IES may otherwise determine you are ineligible to receive an award. If reviews are happening concurrently, IES staff will consult with the other potential funder to determine the degree of overlap and which entity will provide funding if both applications are being considered for funding.

Exemption from Proposed Rulemaking: Under section 191 of the Education Sciences Reform Act, 20 U.S.C. 9581, IES is not subject to section 437(d) of the General Education Provisions Act, 20 U.S.C. 1232(d), and is therefore not required to offer interested parties the opportunity to comment on matters relating to grants.

Program Authority: 20 U.S.C. 9561-9563 et seq.; Sec. 310 of Division H of the Consolidated Appropriations Act, 2023 (117 Pub. L. 328).

Note: Projects will be awarded and must be operated in a manner consistent with the nondiscrimination requirements contained in Federal civil rights laws.

Applicable Regulations: (a) The Education Department General Administrative Regulations in 34 CFR parts 77, 81, 82, 84, 86, 97, 98, and 99. In addition, the regulations in 34 CFR part 75 are applicable, except for the provisions in 34 CFR 75.100, 75.101(b), 75.102, 75.103, 75.105, 75.109(a), 75.200, 75.201, 75.209, 75.210, 75.211, 75.217(a)-(c), 75.219, 75.220, 75.221, 75.222, 75.230, 75.250(a), and 75.708. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474.

Note: The open licensing requirement in 2 CFR 3474.20 does not apply to these competitions.

Note: The Department will implement the provisions in the OMB final rule OMB Guidance for Federal Financial Assistance, which amends 2 CFR parts 25, 170, 175, 176, 180, 182, 183, 184, and 200, on October 1, 2024. Grant applicants should follow the provisions in the OMB Guidance for Federal Financial Assistance (89 FR 30046) when preparing an application. For more information about these updated regulations please visit: www.cfo.gov/resources/uniform-guidance/.

II. Award Information

Types of Awards: Cooperative agreements.

Fiscal Information: This competition will be supported with funds reserved under the authority in sec. 310 of Division H of the Consolidated Appropriations Act, 2023 (Pub. L. 117-328) for the purpose of carrying out rigorous and independent evaluations and to collect and analyze outcome data for any program authorized by the HEA.

Estimated Range of Awards: Up to $1,000,000 for the entire project period of 3 years. The size of the awards will depend on the scope of the projects proposed.

Estimated Number of Awards: The number of awards will depend on the quality of the applications received and the availability of funds.

IES may waive any of the following limits on awards in the special case that the peer review process results in a tie between two or more grant applications, making it impossible to adhere to the limits without funding only some of the equally ranked applications. In that case, IES may make a larger number of awards to include all applications of the same rank.

We intend to fund up to 3 evaluation teams. However, should funding be available, we may consider making additional awards to high-quality applications that remain unfunded after 3 awards are made.

Note: The Department is not bound by any estimates in this notice.

Project Period: Up to 3 years.

III. Eligibility Information

1. Eligible Applicants: Eligible applicants are State higher education agencies or public or private institutions of higher education, as defined in section 101 of the HEA (20 U.S.C. 1001). Applicants that are public or private institutions of higher education must lead the activities of a consortium comprised of at least two public or private institutions of higher education, as defined in section 101 of the HEA.

2. a. Cost Sharing or Matching: The competition in this notice does not require cost sharing or matching.

b. Indirect Cost Rate Information: This program uses an unrestricted indirect cost rate. For more information regarding indirect costs, or to obtain a negotiated indirect cost rate, please see www2.ed.gov/about/offices/list/ocfo/intro.html.

3. Subgrantees: Under 34 CFR 75.708(b) and (c) a grantee under this competition may award subgrants—to directly carry out project activities described in its application—to the following types of entities: public and private agencies and institutions of higher education. The grantee may award subgrants to entities it has identified in an approved application.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application.

2. Other Information: Information regarding program and application requirements for the competition can be found in the currently available IES NCEE Application Submission Guide and in the NCEE Request for Applications (RFA), which will be available on or before August 29, 2024, on the IES website at: https://ies.ed.gov/funding/. The application packages for this competition will also be available on or before August 29, 2024.

3. Content and Form of Application Submission: Requirements concerning the content of an application are contained in the RFA. The forms that must be submitted are in the application package.

4. Submission Dates and Times: The deadline date for transmittal of applications is November 14, 2024.

We do not consider an application that does not comply with the deadline requirement.

5. Intergovernmental Review: This competition is not subject to Executive Order 12372 and the regulations in 34 CFR part 79.

6. Funding Restrictions: We reference regulations outlining funding restrictions in the Applicable Regulations section of this notice.

V. Application Review Information

1. Selection Criteria: For all its grant competitions, IES uses selection criteria based on a peer review process that has been approved by the National Board for Education Sciences. The Peer Review Procedures for Grant Applications can be found on the IES website at https://ies.ed.gov/director/sro/peer_review/application_review.asp.

For the 84.429A competition, peer reviewers will evaluate the significance of the proposed capacity building, the significance of the proposed intervention, institutional resources, and engagement and dissemination.

For all IES competitions, applications must include budgets no higher than the relevant maximum award as set out in the relevant RFA. IES will not make an award exceeding the maximum award amount as set out in the relevant RFA.

2. Review and Selection Process: We remind potential applicants that in reviewing applications in any discretionary grant competition, IES may consider, under 34 CFR 75.217(d)(3), the past performance of the applicant in carrying out a previous award, such as the applicant's use of funds, achievement of project objectives, compliance with the IES policy regarding public access to research, and compliance with grant conditions. IES may also consider whether the applicant failed to submit a timely performance report or submitted a report of unacceptable quality.

In addition, in making a competitive grant award, IES requires various assurances including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition, the Department conducts a review of the risks posed by applicants. Under 2 CFR 200.208, IES may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Guidance for Federal Financial Assistance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for an annual meeting of up to three days for project directors to be held in Washington, DC.

4. Reporting: (a) If you apply for a grant under this competition, you must ensure that you have in place the necessary processes and systems to comply with the reporting requirements in 2 CFR part 170 should you receive funding. This does not apply if you have an exception under 2 CFR 170.110(b).

(b) At the end of your project period, you must submit a final performance report, including financial information, as directed by IES. If you receive a multiyear award, you must submit an annual performance report that provides the most current performance and financial expenditure information as directed by IES under 34 CFR 75.118. IES may also require more frequent performance reports under 34 CFR 75.720(c). For specific requirements on reporting, please go to www.ed.gov/fund/grant/apply/appforms/appforms.html.

5. Performance Measures: To evaluate the overall success of its education research grant programs, IES annually assesses the percentage of projects that result in peer-reviewed publications and the number of IES-supported interventions with evidence of efficacy in improving learner education outcomes.

6. Continuation Awards: In making a continuation award under 34 CFR 75.253, IES considers, among other things: whether a grantee has made substantial progress in achieving the goals and objectives of the project; whether the grantee has expended funds in a manner that is consistent with its approved application and budget; whether a grantee is in compliance with the IES policy regarding public access to research; and if IES has established performance measurement requirements, whether the grantee has made substantial progress in achieving the performance targets in the grantee's approved application.

In making a continuation award, IES also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed in FOR FURTHER INFORMATION CONTACT, as well as in the RFA and application package, individuals with disabilities can obtain this document and a copy of the RFA in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF, you must have Adobe Acrobat Reader, which is available free at the Adobe website.

You may also access Department documents published in the Federal Register by using the article search feature at www.federalregister.gov. Specifically, through the advanced search feature at this site, you can limit your search to documents published by the Department.

Matthew Soldner,
Acting Director, Institute of Education Sciences.

[FR Doc. 2024-18275 Filed 8-14-24; 8:45 am]

BILLING CODE 4000-01-P